DEPARTMENT OF JUSTICE

Notice of Lodging of Consent Decree Under the Comprehensive Environmental Response, Compensation, and Liability Act

In accordance with Departmental policy, 28 CFR 50.7, notice is hereby given that on May 22, 2003, a proposed Consent Decree (the “Decree”) in United States v. Todd Pacific Shipyards Corp., Civil Action No. CV03-1179-Z was lodged with the United States District Court for the Western District of Washington.

In this action the United States sought injunctive relief and recovery of costs in connection with cleanup of hazardous substances located in the vicinity of Harbor Island, in Seattle, Washington. The Decree provides that Todd Pacific Shipyards Corp. will perform cleanup work and pay past and future costs incurred by the United States in connection with the cleanup.

The Department of Justice will receive for a period of thirty (30) days from the date of this publication comments relating to the Decree. Comments should be addressed to the Assistant Attorney General, Environment and Natural Resources Division, P.O. Box 7611, U.S. Department of Justice, Washington, DC 20044-7611, and should refer to United States v. Todd Pacific Shipyards Corp., D.J. Ref. 90-11-2-970/1.

The Decree may be examined at the Office of the United States Attorney, 601 Union Street, Suite 5100, Seattle, WA 98101-3903, and at U.S. EPA Region 10, 1200 Sixth Avenue, Seattle, Washington 98101. During the public comment period, the Decree may also be examined on the following Department of Justice Web site, http://www.usdoj.gov/enrd/open.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $42.50 (25 cents per page reproduction cost) payable to the U.S. Treasury. In requesting a copy exclusive of exhibits and defendants' signatures, please enclose a check in the amount of $13.75 (25 cents per page reproduction cost) payable to the U.S. Treasury.

Robert E. Maher, Jr.,
Assistant Chief, Environmental Enforcement Section, Environment and Natural Resources Division.

[FR Doc. 03-14101 Filed 6-4-03; 8:45 am]

BILLING CODE 4410-15-M